DEPARTMENT OF THE INTERIOR

National Park Service

[NPS-WASO-NAGPRA-10912; 2200-1100-665]

Notice of Inventory Completion: Thomas Burke Memorial Washington State Museum, University of Washington, Seattle, WA

AGENCY: National Park Service, Interior.

ACTION: Notice.

SUMMARY: The Thomas Burke Memorial Washington State Museum (Burke Museum), University of Washington, has completed an inventory of human remains, in consultation with the appropriate Indian tribes, and has determined that there is a cultural affiliation between the human remains and a present-day Indian tribe. Representatives of any Indian tribe that believes itself to be culturally affiliated with the human remains may contact the Burke Museum. Repatriation of the human remains to the tribe named below may occur if no additional claimants come forward.

DATES: Representatives of any Indian tribe that believes it has a cultural affiliation with the human remains and associated funerary objects should contact the Burke Museum at the address below by September 24, 2012.

ADDRESSES: Peter Lape, Burke Museum, University of Washington, Box 35101, Seattle, WA 98195, telephone (206) 685-3849.

SUPPLEMENTARY INFORMATION: Notice is here given in accordance with the Native American Graves Protection and Repatriation Act (NAGPRA), 25 U.S.C. 3003, of the completion of an inventory of human remains under the control of the Thomas Burke Memorial Washington State Museum (Burke Museum), University of Washington, Seattle, WA. The human remains were removed from Wrangell, in Southeast Alaska.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Burke Museum professional staff in consultation with representatives of the Central Council of Tlingit and Haida Indian Tribes; Petersburg Indian Association; Wrangell Cooperative Association; and Sealaska Heritage Institute, a regional Native Alaskan nonprofit organization.

History and Description of the Remains

In 1918, human remains representing, at minimum, one individual were removed from the further out of two stone cairns on a point in Wrangell, Alaska. These remains were collected by Ernest P. Walker, who donated them to the Burke Museum in November of 1918 (Burke Accn. #1508). No known individuals were identified. No funerary objects are present.

The human remains are consistent with Native American morphology, as evidenced through tooth wear as well as the presence of wormian bones. The town of Wrangell, located on Wrangell Island, was aboriginally within the southern Tlingit tribal group of the Stikine (De Laguna 1990, Goldschmidt and Haas 1998, Smythe 1994). Wrangell was the site of a village of the Stikine (Smythe 1994). The Stikine people are now represented by the modern-day Wrangell Cooperative Association.

Determinations Made by the Burke Museum

Officials of the Burke Museum have determined that:

• Based on anthropological and biological evidence, the human remains are determined to be Native American.

• Pursuant to 25 U.S.C. 3001(9), the human remains described above represent the physical remains of one individual of Native American ancestry.

• Pursuant to 25 U.S.C. 3001(2), there is a relationship of shared group identity that can be reasonably traced between the Native American human remains and the Wrangell Cooperative Association.

Additional Requestors and Disposition

Representatives of any other Indian tribe that believes itself to be culturally affiliated with the human remains should contact Peter Lape, Burke Museum, University of Washington, Box 35101, Seattle, WA 98195, telephone (206) 685-9364, before September 24, 2012. Repatriation of the human remains to the Wrangell Cooperative Association may proceed after that date if no additional claimants come forward.

The Burke Museum is responsible for notifying the Central Council of Tlingit and Haida Indian Tribes; Petersburg Indian Association; Wrangell Cooperative Association; and Sealaska Heritage Institute, a regional Native Alaskan nonprofit organization, that this notice has been published.

Dated: July 23, 2012.
Melanie O'Brien,
Acting Manager, National NAGPRA Program.

[FR Doc. 2012-20960 Filed 8-23-12; 8:45 am]

BILLING CODE 4312-50-P